DEPARTMENT OF COMMERCE

National Oceanic and Atmospheric Administration

[RTID 0648-XE283]

South Atlantic Fishery Management Council; Public Meetings

AGENCY: National Marine Fisheries Service (NMFS), National Oceanic and Atmospheric Administration (NOAA), Commerce.

ACTION: Notice of public meetings.

SUMMARY: The South Atlantic Fishery Management Council (Council) will hold six in-person port meetings to gather input on Atlantic king mackerel and Atlantic Spanish mackerel as managed by the Fishery Management Plan for Coastal Migratory Pelagic Resources in the Gulf of Mexico and Atlantic Region.

DATES: The port meetings will take place September 30, 2024-October 8, 2024. The port meetings will begin at 6 p.m., local time. For specific dates and times, see SUPPLEMENTARY INFORMATION.

ADDRESSES:

Council address: South Atlantic Fishery Management Council, 4055 Faber Place Drive, Suite 201, N Charleston, SC 29405.

Meeting addresses: The port meetings will be held in Saint Augustine, FL; Cocoa Beach, FL; Stuart, FL; Lake Worth, FL; Murrells Inlet, SC; and Charleston, SC. For specific locations, see SUPPLEMENTARY INFORMATION.

FOR FURTHER INFORMATION CONTACT: Christina Wiegand, Fishery Social Scientist, SAFMC; phone: (843) 571-4366 or toll free: (866) SAFMC-10; fax: (843) 769-4520; email: christina.wiegand@safmc.net. Additional information about the port meetings is available from the Council's website at https://safmc.net/king-and-spanish-mackerel-port-meetings/.

SUPPLEMENTARY INFORMATION: The Council is hosting a series of port meetings along the Atlantic coast throughout 2024 to take a focused look at the Atlantic king mackerel and Atlantic Spanish mackerel fisheries. The agenda for in-person port meetings is as follows: Council staff will briefly introduce port meetings and the Council's goals and objectives. Attendees will then have the opportunity, through a series of discussion-based breakout groups, to provide input on a variety of issues related to the Atlantic king mackerel and Spanish mackerel fisheries including changing environmental conditions, needed management changes, commercial and recreational fishery dynamics, and the goals and objectives of the Coastal Migratory Pelagics Fishery Management Plan. Information provided during port meetings will be summarized and presented to the Council for use in management decision-making. Additional port meetings will be scheduled along the Atlantic coast throughout the remainder of 2024.

In-Person Locations

• Monday, September 30, 2024: Willie Galimore Community Center, 399 Riberia Street, St. Augustine, FL 32084; phone: (904) 825-1004;

• Tuesday, October 1, 2024: Cocoa Civic Center, 430 Delannoy Avenue, Cocoa, FL 32922; phone: (321) 639-3500 x4;

• Wednesday, October 2, 2024: The Banyan Room (Women's Club of Stuart), 729 SE Ocean Blvd., Stuart, FL 34994; phone: (772) 291-8820;

• Thursday, October 3, 2024: Palm Beach County Lantana Road Branch Library, 4020 Lantana Road, Lake Worth, FL 33462: phone: (531) 304-4500;

• Monday, October 7, 2024: Murrells Inlet Community Center, 4462 Murrells Inlet Road, Murrells Inlet, SC 29576; phone: (843) 545-3651; and

• Tuesday, October 8, 2024: South Carolina Department of Natural Resources Outdoor Classroom, 217 Fort Johnson Road, Charleston, SC 29412; phone: (843) 953-9300.

Special Accommodations

These meetings are physically accessible to people with disabilities. Requests for auxiliary aid should be directed to the Council office (see ADDRESSES) 5 days prior to the meeting.

Note: The times and sequence specified in this agenda are subject to change.

Authority: 16 U.S.C.1801 et seq.

Dated: September 10, 2024.
Rey Israel Marquez,
Acting Deputy Director, Office of Sustainable Fisheries, National Marine Fisheries Service.

[FR Doc. 2024-20822 Filed 9-12-24; 8:45 am]

BILLING CODE 3510-22-P